DEPARTMENT OF HEALTH AND HUMAN SERVICES

National Institutes of Health

Symposium on Assessing Exposures and Health Effects Related to Indoor Biomass Fuel Burning; Notice of Meeting and Registration Information

SUMMARY: The National Toxicology Program (NTP) announces a symposium on “Assessing Exposures and Health Effects Related to Indoor Biomass Fuel Burning.” The symposium will bring together researchers working in the area of indoor biomass fuel burning emissions and health effects to discuss the latest science, policy, and future directions. The meeting is open to the public. Registration is requested for attendance and required to access the webcast. Information about the meeting and registration are available at http://ntp.niehs.nih.gov/go/41613.

DATES: Meeting: August 18, 2014, from 8 a.m. to approximately 5 p.m. Eastern Daylight Time (EDT).

Registration for Meeting: Registration is open through August 4, 2014. Registration to view the symposium via webcast is required.

ADDRESSES:

Meeting Location: Rodbell Auditorium, Rall Building, National Institute of Environmental Health Sciences (NIEHS), 111 T.W. Alexander Dr., Research Triangle Park, NC 27709.

Meeting Web page: The preliminary agenda and registration are at http://ntp.niehs.nih.gov/go/41613.

Webcast: The meeting will be webcast; the URL will be provided to those who register for viewing.

FOR FURTHER INFORMATION CONTACT: Dr. Cynthia Rider, NTP Toxicologist, NIEHS, P.O. Box 12233, MD K2-12, Research Triangle Park, NC 27709. Telephone: 919-541-7638, email: cynthia.rider@nih.gov.

SUPPLEMENTARY INFORMATION:

Background: The burning of solid fuels (e.g., wood, charcoal, dung) for cooking and heat results in a significant global health burden. According to the World Health Organization, over 4 million premature deaths per year are attributed to indoor air pollution from inefficient use of solid fuels (http://www.who.int/mediacentre/factsheets/fs292/en/). Understanding the health effects associated with indoor air pollution is a priority for NIEHS and is one of the five focus areas of the NIEHS' World Health Organization Collaborating Centre for Environmental Health Sciences (http://www.niehs.nih.gov/research/programs/geh/partnerships/index.cfm).

Progress on this important public health challenge requires a concerted cross-disciplinary effort involving exposure scientists, toxicologists, epidemiologists, engineers, and public policy experts. Towards this goal, this symposium will bring together researchers working in the area of indoor biomass fuel burning emissions and health effects to discuss the latest science including topics ranging from advances in exposure measurement to health effects assessed in model systems and human populations. Additionally, the symposium will include a panel discussion about how that science might inform policies and potential areas for research funding.

Meeting and registration: This meeting is open to the public, free of charge, with attendance limited only by the space available. Individuals who plan to attend in person should register at http://ntp.niehs.nih.gov/go/41613 by August 4, 2014, to facilitate meeting planning. Registration is required to view the webcast; the URL for the webcast will be provided in the email confirming registration. A preliminary agenda and additional information are available at http://ntp.niehs.nih.gov/go/41613. Individuals interested in this meeting are encouraged to access the Web site to stay abreast of the most current information regarding the meeting.

Visitor and security information for those attending in-person is available at http://www.niehs.nih.gov/about/visiting/. Individuals with disabilities who need accommodation to participate in this event should contact Dr. Rider at phone: (919) 541-7638 or email: cynthia.rider@nih.gov. TTY users should contact the Federal TTY Relay Service at 800-877-8339. Requests should be made at least five business days in advance of the event.

Background Information on the NTP: The NTP is an interagency program established in 1978 (43 FR 53060) to strengthen the Department's activities in toxicology research and testing, and develop and validate new and better testing methods. Other activities of the program focus on strengthening the science base in toxicology and providing information about potentially toxic chemicals to health regulatory and research agencies, scientific and medical communities, and the public. The NTP is located administratively at the NIEHS. Information about the NTP and NIEHS is found at http://www.niehs.nih.gov and http://ntp.niehs.nih.gov, respectively.

Dated: June 13, 2014.
John R. Bucher,
Associate Director, National Toxicology Program.

[FR Doc. 2014-14299 Filed 6-18-14; 8:45 am]

BILLING CODE 4140-01-P